DEPARTMENT OF THE TREASURY

Customs Service

Notice of Cancellation of Customs Broker Permit

AGENCY: U.S. Customs Service, Department of the Treasury.

ACTION: General notice.

SUMMARY: Pursuant to section 641 of the Tariff Act of 1930, as amended, (19 U.S.C. 1641) and the Customs Regulations (19 CFR 111.51), the following Customs broker local permits are canceled without prejudice.

Name | Permit No. | Issuing port
Arthur Andersen LLP | 93-008 | Houston.
Arthur Andersen LLP | (no number) | Detroit.
US Express International, Inc. | D-09-01 | Dallas/Ft. Worth.
Edward M. Jones Co., Inc. | 093 | Seattle.
Khosrow Khorraminejad | 16001-P | San Francisco.
James F. Mooring | 5386-056 | Houston.
Fritz Companies, Inc. | 007 | Great Falls.
Independent Brokerage LLC | 056 | Great Falls.
Fritz Companies, Inc. | 057 | Seattle.
Tower Group International, Inc. | 112 | Seattle.

Dated: October 22, 2002.
Jayson P. Ahern,
Assistant Commissioner, Office of Field Operations.

[FR Doc. 02-28253 Filed 11-5-02; 8:45 am]

BILLING CODE 4820-02-P